ENVIRONMENTAL PROTECTION AGENCY

40 CFR Part 52

[EPA-R05-OAR-2015-0379; FRL-9942-54-Region 5]

Air Plan Approval; Indiana; Particulate Matter Emissions Limits Revision

AGENCY: Environmental Protection Agency (EPA).

ACTION: Direct final rule.

SUMMARY: Under the Clean Air Act (CAA), the Environmental Protection Agency (EPA) is approving a June 1, 2015, request by Indiana to revise the State Implementation Plan (SIP) to incorporate changes to the particulate matter (PM) rules contained in Title 326 of the Indiana Administrative Code (IAC). This approval affects sources of PM in the state of Indiana.

DATES: This direct final rule will be effective April 22, 2016, unless EPA receives adverse comments by March 23, 2016. If adverse comments are received, EPA will publish a timely withdrawal of the direct final rule in the Federal Register informing the public that the rule will not take effect.

ADDRESSES: Submit your comments, identified by Docket ID No. EPA-R05-OAR-2015-0379 at http://www.regulations.gov or via email to blakley.pamela@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the Web, cloud, or other file sharing system). For additional submission methods, please contact the person identified in the FOR FURTHER INFORMATION CONTACT section. For the full EPA public comment policy, information about CBI or multimedia submissions, and general guidance on making effective comments, please visit http://www2.epa.gov/dockets/commenting-epa-dockets.

FOR FURTHER INFORMATION CONTACT: Anthony Maietta, Environmental Protection Specialist, Control Strategies Section, Air Programs Branch (AR-18J), Environmental Protection Agency, Region 5, 77 West Jackson Boulevard, Chicago, Illinois 60604, (312) 353-8777, maietta.anthony@epa.gov.

SUPPLEMENTARY INFORMATION: Throughout this document whenever “we,” “us,” or “our” is used, we mean EPA. This supplementary information section is arranged as follows:

I. What is the background for this action?

II. What is EPA's analysis of the SIP revision?

III. What action is EPA taking?

IV. Incorporation by Reference

V. Statutory and Executive Order Reviews

I. What is the background for this action?

On June 1, 2015, the Indiana Department of Environmental Management (IDEM) submitted a request for EPA to approve revisions to PM rules contained in 326 IAC 6.5 and 6.8. The revisions to these rules were published in the May 28, 2015, edition of the Indiana Register. On January 14, 2015, IDEM held the first of two public hearings on revisions to these rules. IDEM received comments during its January 14, 2015, public hearing, and IDEM revised its rules in response to those comments. IDEM's second public hearing was held on March 11, 2015. IDEM did not receive any comments at its March 11, 2015, public hearing.

II. What is EPA's analysis of the SIP revision?

Below is a discussion of changes to 326 IAC 6.5:

• Sections 4-2, 4-17 and 4-24

Revisions to 326 IAC 6.5-4-2 and 326 IAC 6.5-4-17 consolidate the identification numbers of the Kimball Office facilities in Jasper Indiana from 00046 and 00042 to 00100. The revision to 326 IAC 6.5-4-24 revises the business name of the regulated source from Styline Industries, Inc. Plant #8 to OFS Brands, Inc.—Plant #3. These administrative revisions provide clarity to the existing rule and are approvable into the Indiana SIP.

• Section 5-2

Revisions to 326 IAC 6.5-5-2 update the business name of the regulated source from Chrysler Group to FCA US, and the source identification number for boiler 4 at the FCA US, LLC Kokomo Transmission Plant from 00065 to 00078. Additionally, the revision removes the following units, due to shut down and removal, at the FCA US, LLC Kokomo Casting Plant: Reverberatory furnaces 1ARF, 1BRF, and 5RF (source identification numbers 2P, 3P, and 7P, respectively). Overall, the revisions to Section 5-2 are approvable into the Indiana SIP as they provide clarity to the existing rule, and the removal of these units will reduce emissions.

• Section 5-5

A revision to 326 IAC 6.5-5-5 updates the business name of the regulated source from Delco Electronics Corporation to GM Components Holdings, LLC.

• Section 6-2

A revision to 326 IAC 6.5-6-2 removes boilers 1, 2, and 3 from Allison Transmission due to shut down and removal. Further, a revision to this section updates the source identification number for this facility from 00017 to 00310, and consolidates reporting requirements for this source. Overall, these revisions to Section 6-2 are approvable into the Indiana SIP as they provide clarity to the existing rule, and the removal of these units will help reduce emissions.

• Section 6-25 and 6-26

A revision to Section 6.5-6-25 updates the business name of the regulated source from National Starch and Chemical Company to Ingredion Incorporated Indianapolis Plant. A revision to Section 6.6-6-26 updates the business name of the regulated source from International Truck and Engine Corporation & Indianapolis Casting Corporation to Navistar, Inc.

• Section 6-33

A revision to 326 IAC 6.5-6-33 removes Boilers 0070 01 through 0070 04 from the Rolls-Royce Corporation facility due to their shutdown and removal. In addition, a revision to Paragraph (3)(B) (post-revision, paragraph (2)(B)) removes coal and adds #4 fuel oil to a list of operating fuels for the facility. These revisions to Section 6-33 are approvable into the Indiana SIP as the removal of these units will help to reduce emissions.

326 IAC 6.8

Below is a discussion of changes to 326 IAC 6.8:

• Section 2-18

A revision to 326 IAC 6.8-2-18 removes three units and increases the PM emission rates (in lbs/hour) for two units at the Jupiter Aluminum Corporation's facility in Lake County. The aluminum reverberatory furnaces 3, 4, and 5 were shut down and removed, and the PM emission rates for the aluminum reverberatory furnaces 2 and 6 were increased. Specifically, the PM emission rate for the aluminum reverberatory furnace 2 was increased from 1.137 to 1.499 lbs/hour. The PM emission rate for the aluminum reverberatory furnace 6 was increased from 0.970 to 2.008 lbs/hour. The increase in PM emission rates are offset by the reduction in PM emission rates due to the shut down and removal of the aluminum reverberatory furnaces 3, 4, and 5. The revision to this section is approvable into the Indiana SIP.

• Section 2-29

Revisions to 326 IAC 6.8-2-29 update the business name of the regulated source from Reed Minerals to Harsco Minerals. The revision also removes the fluidized bed dryer and its associated PM emission due to shut down and removal. These revisions to Section 2-29 are approvable into the Indiana SIP as they provide clarity to the existing rule, and the shutdown of the fluidized bed dryer will help reduce emissions.

• Section 2-34

Revisions to 326 IAC 6.8-2-34 remove one molded pulp dryer; revise the PM emissions limits for the remaining molded pulp dryers; and clarify the reporting and recordkeeping requirements for the Huhtamaki Foodservice, Inc., in Lake County. Specifically, the PM emission rates for the molded pulp dryers were revised as follows:

—Molded pulp dryer number 1: 0.290 lbs/hour

—Molded pulp dryer number 2: 0.290 lbs/hour

—Molded pulp dryer number 3: 0.342 lbs/hour

—Molded pulp dryer number 4: 0.342 lbs/hour

—Molded pulp dryer number 5: 0.290 lbs/hour

—Molded pulp dryer number 6: 0.290 lbs/hour

—Molded pulp dryer number 8: 0.615 lbs/hour

—Molded pulp dryer number 9: 0.615 lbs/hour

—Molded pulp dryer number 10: 0.615 lbs/hour

The total facility PM emissions rate for molded pulp dryers remains capped at 2.41 lbs/hour. Additional recordkeeping and reporting requirements were included to ensure compliance with the capped PM emissions rate under any operating scenario. Because this rule revision retains the capped PM emission rate, and because this rule revision includes requirements to ensure the facility complies with the PM emission rates, these revisions are approvable into the Indiana SIP. The revisions to 326 IAC 6-5 and 6-8 contain wording changes and additions, improve and expand the applicability of the rule and its impact on air quality statewide. On balance, EPA finds that the revisions strengthen the existing SIP in Indiana and as such, deems the submittal approvable.

III. What action is EPA taking?

EPA is approving into the Indiana SIP revisions to the PM rules contained in Title 326 of the Indiana Administrative Code (IAC), Article 6, Rule 5 (326 IAC 6.5) and Rule 8 (326 IAC 6.8).

We are publishing this action without prior proposal because we view this as a noncontroversial amendment and anticipate no adverse comments. However, in the proposed rules section of this Federal Register publication, we are publishing a separate document that will serve as the proposal to approve the state plan if relevant adverse written comments are filed. This rule will be effective April 22, 2016 without further notice unless we receive relevant adverse written comments by March 23, 2016. If we receive such comments, we will withdraw this action before the effective date by publishing a subsequent document that will withdraw the final action. All public comments received will then be addressed in a subsequent final rule based on the proposed action. EPA will not institute a second comment period. Any parties interested in commenting on this action should do so at this time. Please note that if EPA receives adverse comment on an amendment, paragraph, or section of this rule and if that provision may be severed from the remainder of the rule, EPA may adopt as final those provisions of the rule that are not the subject of an adverse comment. If we do not receive any comments, this action will be effective April 22, 2016.

IV. Incorporation by Reference

In this rule, EPA is finalizing regulatory text that includes incorporation by reference. In accordance with requirements of 1 CFR 51.5, EPA is finalizing the incorporation by reference of the Indiana Regulations described in the amendments to 40 CFR part 52 set forth below. EPA has made, and will continue to make, these documents generally available electronically through www.regulations.gov and/or in hard copy at the appropriate EPA office (see the ADDRESSES section of this preamble for more information).

V. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by April 22, 2016. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Incorporation by reference, Intergovernmental relations, Particulate matter, Reporting and recordkeeping requirements.

Dated: February 3, 2016.
Robert A. Kaplan,
Acting Regional Administrator, Region 5.

40 CFR part 52 is amended as follows:

PART 52—APPROVAL AND PROMULGATION OF IMPLEMENTATION PLANS

1. The authority citation for part 52 continues to read as follows:

Authority: 42 U.S.C. 7401 et seq.

2. In § 52.770, the table in paragraph (c) is amended under the headings entitled “Article 6.5. Particulate Matter Limitations Except Lake County” and “Article 6.8. Particulate Matter Limitations for Lake County” by:

i. Removing the entries for Rules 6.5-3-7 and 6.5-3-8 under the subheading entitled “Rule 3. Dearborn County”.

ii. Revising the entries for Rules 6.5-4-2, 6.5-4-4, 6.5-4-17, and 6.5-4-24 under the subheading entitled “Rule 4. Dubois County”.

iii. Revising the entries for Rules 6.5-5-2 and 6.5-5-5 under the subheading entitled “Rule 5. Howard County”.

iv. Revising the entries for Rules 6.5-6-2, 6.5-6-25, 6.5-6-26, and 6.5-6-33, and removing the entries for Rules 6.5-6-3 and 6.5-6-15 under the subheading entitled “Rule 6. Marion County”.

v. Removing the entry for Rule 6.5-9-8 under the subheading entitled “Rule 9. Vigo County”.

vi. Removing the entry for Rule 6.5-10-6 under the subheading entitled “Rule 10. Wayne County”.

vii. Revising the entries for Rules 6.8-2-18, 6.8-2-29 and 6.8-2-34 under the subheading entitled “Rule 2. Lake County: PM10 Emission Requirements”.

The revised text reads as follows:

§ 52.770 Identification of plan.

* * * * *

(c) * * *

EPA-Approved Indiana Regulations
Indiana citation | Subject | Indiana effective date | EPA Approval date | Notes
* * * * * * *
Article 6.5. Particulate Matter Limitations Except Lake County
| * * * * * * *
Rule 4. Dubois County
| * * * * * * *
6.5-4-2 | Kimball Office—Jasper 15th Street | 05/29/2015 | 02/22/2016, [insert Federal Register citation] |
* * * * * * *
6.5-4-4 | DMI Furniture Plant No. 5 | 05/29/2015 | 02/22/2016, [insert Federal Register citation] |
* * * * * * *
6.5-4-17 | Kimball Office—Jasper Cherry Street | 05/29/2015 | 02/22/2016, [insert Federal Register citation] |
* * * * * * *
6.5-4-24 | Styline Industries, Inc. Plant #8 | 05/29/2015 | 02/22/2016, [insert Federal Register citation] |
Rule 5. Howard County
| * * * * * * *
6.5-5-2 | Chrysler, LLC-Kokomo Casting Plant and Kokomo Transmission Plant | 05/29/2015 | 02/22/2016, [insert Federal Register citation] |
6.5-5-5 | Delco Electronics Corporation | 05/29/2015 | 02/22/2016, [insert Federal Register citation] |
* * * * * * *
Rule 6. Marion County
| * * * * * * *
6.5-6-2 | Allison Transmission | 05/29/2015 | 02/22/2016, [insert Federal Register citation] |
* * * * * * *
6.5-6-25 | National Starch and Chemical Company | 05/29/2015 | 02/22/2016, [insert Federal Register citation] |
6.5-6-26 | International Truck and Engine Corporation & Indianapolis Casting Corporation | 05/29/2015 | 02/22/2016, [insert Federal Register citation] |
* * * * * * *
6.5-6-33 | Rolls-Royce Corporation | 05/29/2015 | 02/22/2016, [insert Federal Register citation] |
* * * * * * *
Article 6.8. Particulate Matter Limitations for Lake County
| * * * * * * *
Rule 2. Lake County: PM10 Emission Requirements
| * * * * * * *
6.8-2-18 | Jupiter Aluminum Corporation | 05/29/2015 | 02/22/2016, [insert Federal Register citation] |
* * * * * * *
6.8-2-29 | Reed Minerals-Plant #14 | 05/29/2015 | 02/22/2016, [insert Federal Register citation] |
* * * * * * *
6.8-2-34 | Huhtamaki Foodservice, Inc. | 05/29/2015 | 02/22/2016, [insert Federal Register citation] |
* * * * * * *

* * * * *

[FR Doc. 2016-03490 Filed 2-19-16; 8:45 am]

BILLING CODE 6560-50-P